CONSUMER PRODUCT SAFETY COMMISSION

16 CFR Part 1216

[Docket No. CPSC-2009-0066]

Safety Standard for Infant Walkers

AGENCY: Consumer Product Safety Commission.

ACTION: Direct final rule.

SUMMARY: In June 2010, the U.S. Consumer Product Safety Commission (CPSC) published a consumer product safety standard for infant walkers under section 104 of the Consumer Product Safety Improvement Act of 2008 (CPSIA), incorporating by reference the 2007 version of ASTM's voluntary standard for infant walkers that was in effect at the time, with modifications approved by the Commission. ASTM updated its standard for infant walkers in 2012, and CPSC accepted the revised voluntary standard, without any modifications, as the mandatory standard for infant walkers. ASTM has notified CPSC of a 2022 update to the infant walkers voluntary standard. This direct final rule updates the mandatory standard for infant walkers to incorporate by reference ASTM's 2022 version of the voluntary standard.

DATES: The rule is effective on February 25, 2023, unless CPSC receives a significant adverse comment by December 29, 2022. If CPSC receives such a comment, it will publish a document in the Federal Register, withdrawing this direct final rule before its effective date. The incorporation by reference of the publication listed in this rule is approved by the Director of the Federal Register as of February 25, 2023.

ADDRESSES: You can submit comments, identified by Docket No. CPSC-2009-0066, by any of the following methods:

Electronic Submissions: Submit electronic comments to the Federal eRulemaking Portal at: www.regulations.gov. Follow the instructions for submitting comments. Do not submit through this website: confidential business information, trade secret information, or other sensitive or protected information that you do not want to be available to the public. CPSC typically does not accept comments submitted by electronic mail (email), except as described below.

Mail/Hand Delivery/Courier/Confidential Written Submissions: CPSC encourages you to submit electronic comments by using the Federal eRulemaking Portal. You may, however, submit comments by mail, hand delivery, or courier to: Office of the Secretary, Consumer Product Safety Commission, 4330 East West Highway, Bethesda, MD 20814; telephone: (301) 504-7479.

Instructions: All submissions must include the agency name and docket number. CPSC may post all comments without change, including any personal identifiers, contact information, or other personal information provided, to: www.regulations.gov. If you wish to submit confidential business information, trade secret information, or other sensitive or protected information that you do not want to be available to the public, you may submit such comments by mail, hand delivery, or courier, or you may email them to: cpsc-os@cpsc.gov.

Docket: For access to the docket to read background documents or comments received, go to: www.regulations.gov, and insert the docket number, CPSC-2009-0066, into the “Search” box, and follow the prompts.

FOR FURTHER INFORMATION CONTACT: Keysha Walker, Compliance Officer, U.S. Consumer Product Safety Commission, 4330 East West Highway, Bethesda, MD 20814; telephone: (301) 504-6820; email: KWalker@cpsc.gov.

SUPPLEMENTARY INFORMATION:

A. Background

1. Statutory Authority

Section 104(b)(1) of the CPSIA requires the Commission to assess the effectiveness of voluntary standards for durable infant or toddler products and to adopt mandatory standards for these products. 15 U.S.C. 2056a(b)(1). A mandatory standard must be “substantially the same as” the corresponding voluntary standard, or it may be “more stringent than” the voluntary standard, if the Commission determines that more stringent requirements would further reduce the risk of injury associated with the product. Id.

Section 104(b)(4)(B) of the CPSIA specifies the process for updating the Commission's rules when a voluntary standards organization revises a standard that the Commission previously incorporated by reference under section 104(b)(1). 15 U.S.C. 2056a(b)(4)(B). First, the voluntary standards organization must notify the Commission of the revision. Once the Commission receives this notification, the Commission may reject or accept the revised standard. The Commission may reject the revised standard by notifying the voluntary standards organization, within 90 days of receiving notice of the revision, that it has determined that the revised standard does not improve the safety of the consumer product and that it is retaining the existing standard. If the Commission does not take this action to reject the revised standard, then the revised voluntary standard will be considered a consumer product safety standard issued under section 9 of the Consumer Product Safety Act (15 U.S.C. 2058), effective 180 days after the Commission received notification of the revision or on a later date specified by the Commission in the Federal Register. 15 U.S.C. 2056a(b)(4)(B).

2. Safety Standard for Infant Walkers

Under section 104(b)(1) of the CPSIA, the Commission adopted a mandatory rule for infant walkers, codified in 16 CFR part 1216. The rule incorporated by reference ASTM F977-07, Standard Consumer Safety Specification for Infant Walkers, with numerous modifications. 75 FR 35266 (June 21, 2010). ASTM revised the voluntary standard in 2012, to ASTM F977-12. In June 2013, the Commission accepted the revision to the standard as the mandatory standard for infant walkers, without any modifications, and published a direct final rule to incorporate by reference ASTM F977-12 into 16 CFR part 1216. 78 FR 37706 (June 24, 2013). ASTM revised the voluntary standard in 2018 (ASTM F977-18) and 2022 (ASTM F977-22) without notifying CPSC.

On August 29, 2022, ASTM notified CPSC that it has once more revised the voluntary standard for infant walkers, by approving ASTM F977-22e1 on June 1, 2022. On September 9, 2022, the Commission published a notice of availability in the Federal Register regarding the revised voluntary standard and sought comments on the effect of the revisions on the safety of the standard for infant walkers. 87 FR 55413 (Sep. 9, 2022). One comment was submitted by the Juvenile Products Manufacturers Association, expressing support for the revised voluntary standard and asserting that the revision improves safety.

As discussed in section B. Revisions to ASTM F977, based on CPSC staff's review of ASTM F977-22e1,¹ the Commission will allow the revised voluntary standard to become the mandatory standard because it improves the safety of infant walkers.² Accordingly, by operation of law under section 104(b)(4)(B) of the CPSIA, ASTM F977-22e1 will become the mandatory consumer product safety standard for infant walkers on February 25, 2023. 15 U.S.C. 2056a(b)(4)(B). This direct final rule updates 16 CFR part 1216 to incorporate by reference the revised voluntary standard, ASTM F977-22e1.

¹ CPSC staff's briefing package regarding ASTM F977-22e1 is available at: https://www.cpsc.gov/s3fs-public/BPDraftDirectFinalRuletoRevise16CFRPart1216SafetyStandardforInfantWalkers.pdf?VersionId=rG8Qmw4TKkgazk37BVYgcJrFs8aLYy.B.

² The Commission voted 4-0 to approve publication of this direct final rule.

B. Revisions to ASTM F977

The ASTM standard for infant walkers includes performance requirements, test methods, and requirements for warning labels and instructional literature, to reduce or prevent death or injuries to children (such as cuts and bruises, burns, and skull fractures). ASTM approved a revised version of ASTM F977 on June 15, 2022, and published that ASTM F977-22 revision. In July 2022, however, ASTM made editorial changes and published ASTM F977-22e1 as another revision.³ ASTM notified CPSC of the ASTM F977-22e1 revision on August 29, 2022.

³ ASTM F977-22 contained editorial errors that ASTM addressed in ASTM F977-22e1 prior to notification to CPSC.

The Commission concludes that ASTM F977-22e1 improves the safety of infant walkers. Because ASTM did not notify CPSC of changes made to the standard in ASTM F977-18 and ASTM F977-22, the Commission is now evaluating the substantive and non-substantive changes made to ASTM F977-12 in the 2018 and 2022 versions of the standard, as carried through in the 2022e1 version.

1. Background Information on Tipping Tests

The ASTM F977 standard includes several tests to evaluate the safety of infant walkers, including among others, the Tipping Resistance Against an Immovable Object test, Occupant Leaning Over Edge/Occupant Leaning Outward Over Edge of Walker test, and the Prevention of Falls Down Step(s) test. The following discussion explains how these particular tests are performed, as background for the later discussion of ASTM's changes to the standard.

Tipping Resistance Against an Immovable Object (6.1.1/7.3.1)

This test simulates the walker tipping over while the wheels are stopped against an immovable object. It is conducted by chocking, or preventing the wheels of the walker from moving, and pulling the walker with a horizontal force toward the chocks until it tips over. This test is conducted in both the forward and rearward directions.

Occupant Leaning Over Edge (6.1.2)/Occupant Leaning Outward Over Edge of Walker (7.3.4)

This test simulates a child leaning over the edge of the walker, which may cause the walker to tip. It is conducted with a Federal Aviation Administration Civil Aeronautical Medical Institute (CAMI) dummy in both the forward and sideward directions on the floor. This test is also performed after the Steps Tests (described below) with a 17-lb force applied on an aluminum angle affixed on top of the walker with the CAMI dummy removed. This ensures the simulated child cannot cause the walker to fall over at the step edge.

Prevention of Falls Down Step(s) (6.3)/Step(s) Tests (7.6)

This multipart test simulates a child traveling in the walker, reaching the edge of the stairs, and potentially falling down the stairs. It is conducted by placing and centering the infant walker on top of the test platform surface in the forward direction a certain distance, d, from the edge of the test platform. With a dummy in the seat of the walker, an 8-lb weight is attached to the walker. When this weight is released, the walker accelerates to the specified speed to the edge of the test platform, or edge of the stairs, potentially falling. This test is performed separately in the forward, rearward, and sideward directions.

If the walker is stopped on the edge of the test platform by various methods employed by manufacturers, such as friction pads, it is still possible for the child to lean and cause the walker to fall down the stairs. The Occupant Leaning Outward Over Edge of Walker test, explained above, evaluates the product's ability to prevent this, and to perform this test, the dummy must be removed. This test is conducted for both forward and sideward directions.

2. Comparison and Review of ASTM F977-12 to Revisions Contained in ASTM F977-22e1

a. Revisions in ASTM F977-18

Substantive Changes in ASTM F977-18

ASTM F977-18 made no substantive changes to ASTM F977-12.

Non-Substantive Changes in ASTM F977-18

The following changes to ASTM F977-18 are strictly editorial and do not affect testing or performance requirements.

• Section 1.6, part of the Scope, adds “environmental” to the type of appropriate practices to establish for the health and safety of testers. This section reminds testers that they are responsible for establishing appropriate safety, health, and environmental practices prior to and during testing.

• Section 1.7, part of the Scope, adds: “This international standard was developed in accordance with internationally recognized principles on standardization established in the Decision on Principles for the Development of International Standards, Guides and Recommendations issued by the World Trade Organization Technical Barriers to Trade (TBT) Committee.”

• Section 7.3.2.1, part of the Tipping Resistance Against an Immovable Object test, replaces “manufacturers” with “manufacturer's.”

• Section 7.6.4.1, part of the Sideward Facing Step Test, replaces “most sideward wheel(s)” with “wheel(s) closest,” for the Prevention of Falls Down Steps test, clarifying that the distance from the edge of the test platform to the center of the wheels should be measured to the wheels closest to the edge of the test platform. This is not a substantive change, but it improves the rigor of testing to the extent it prevents misapplication.

• Section X1.9, Rationale, was added to document the basis for the Occupant Leaning Outward Over Edge of Walker test and the mathematical calculations underlying it.

There was no change to testing, nor to performance requirements.

b. Revisions in ASTM F977-22

Substantive Changes in ASTM F977-22

ASTM F977-22 made the following substantive changes to ASTM F977-18.

Section 7.6.1.8, part of Test Platform Specifications, and Section 7.6.3.2, part of the Forward Facing Step Test, were revised to require the CAMI Infant Dummy Mark II to be secured to the front of the occupant seating area (tray) during the Forward-Facing Step Test. Prior to this change, the dummy could be unsecured. The original wording of Section 7.6.1.8 stated “may be secured,” and was changed to “shall be secured.” Section 7.6.3.2 was modified to include “Secure the dummy so that the front of the dummy's torso remains in contact with the front of the occupant seating area during the test.”

The Forward-Facing Step Test is conducted to determine whether the infant walker can prevent a child from falling downstairs by stopping itself. The Commission concludes that this change improves the safety of infant walkers because the weight of the CAMI dummy is placed further forward, moving the center of gravity of the dummy closer to the edge of the test platform, creating a more hazardous scenario for the test. This results in a more stringent test, and the change from “may” to “shall” also ensures consistency during testing, by specifying the dummy location for testing.

Section 7.6.4.2, part of the Sideward Facing Step Test, was changed to require the CAMI Infant Dummy Mark II to be secured to the side of the occupant seating area during the Sideward Facing Step Test. Prior to this change, securing the dummy was optional. Similar to the Forward-Facing Step Test, the Sideward-Facing Step Test is conducted to determine whether the infant walker can prevent a child from falling downstairs by stopping itself by various methods employed by manufacturers, such as friction pads, but in the sideward direction. The Commission concludes that this change improves the safety of infant walkers because the weight of the CAMI dummy is placed further sideward, moving the center of gravity of the dummy closer to the edge of the test platform, making the walker more likely to tip over when the walker leans over the edge of the test platform. This new test is a worst case scenario than if the CAMI was not secured to the side of the occupant seating area. This results in a more stringent test, and the change from “may” to “shall” also ensures consistency during testing, by specifying the dummy location for testing.

Section 7.6.5.2, part of the Rearward-Facing Step Test, now requires the CAMI Infant Dummy Mark II to be secured to the back of the occupant seating area during the Rearward-Facing Step Test. Prior to this change, securing the dummy was optional. Similar to the Forward-Facing Step Test, the Rearward-Facing Step Test is conducted to determine whether the infant walker can prevent a child from falling downstairs by stopping itself by various methods employed by manufacturers, such as friction pads, but in the rearward direction. The Commission concludes that this change improves the safety of infant walkers because the weight of the CAMI dummy is placed more rearward, moving the center of gravity of the dummy closer to the edge of the test platform, making it more likely that the walker tips over when the walker leans over the edge of the test platform. This results in a more stringent test, and the change from “may” to “shall” also ensures consistency during testing, by specifying the dummy location for testing.

Non-Substantive Changes in ASTM F977-22

Numerous non-substantive changes were made to ASTM F977-22, such as edits for clarity and consistency. These changes do not substantively affect the testing or performance requirements. Examples include:

• Sections 4.4, 4.6.1, 4.6.2, 7.1.1.2, 7.1.1.3, 7.1.2.2, 7.1.2.4, 7.3.4.2, 7.6.5.3, and 7.7.1 all add units of measurement in the proper grammatical form. For instance, 73 ± 9 °F, was rewritten to 73 °F ± 9 °F.

• Section 7.3.2.1, part of the Forward Tip-Resistance test, uncapitalizes “Dummy's,” replacing it with “dummy's.”

• Sections 7.3.2.3-7.3.3.5 replace wording in the Forward- and Rearward Tip-Resistance test with language from ASTM F404-21, Standard Consumer Specification for High Chairs. This new language defines “F1” as the pretensioned force of 3 lb and adds “While maintaining the force, establish the initial location of a reference point some distance away from the force gauge.” This pretensioned force helps the tester identify the reference point at which to start measuring the distance traveled when the horizontal force is applied to tip the walker.

• In Table 1, Summary of Step(s) Tests, the significant figures for the specified weight of the CAMI dummy are corrected to specify the actual weight of 17.4 lbs instead of 17 lbs.

• Section 7.6.3.1, part of the Forward-Facing Step Test, adds a non-mandatory note: “To position the swivel wheels in the direction of movement, the walker should be positioned approximately 3 in. from the calculated release distance then moved parallel to Plane A until reaching the release point.” This guidance allows for better test consistency and better ensures the wheels are aligned to the direction of travel for the most onerous configuration, as opposed to manually rotating the wheels.

Section 7.6.3.2, part of the Forward-Facing Step Test, adds the following notes: “When positioning the dummy in the seat, a length of military rope, as specified in Fig. 10, should be used to pull the front of the dummy's torso in contact with the front of the occupant seating area. The military rope must not restrain movement of the dummy's head per 7.6.1.2.” and “To hold the walker stationary, a mechanical device such as an archery bow release may be used to anchor the walker until it is released per 7.6.3.4.” Specifying the rope used for this test results in consistent test results. No instructions for securing the dummy existed prior to the ASTM F977-22 revision because securing the dummy was not required. The second change provides a means to secure the walker while it is being positioned for the test, although other methods could be used.

c. Revisions in ASTM F977-22e1

Substantive Changes in ASTM F977-22e1

No substantive changes were made in ASTM F977-22e1.

Non-Substantive Changes in ASTM F977-22e1

The following changes to ASTM F977-22e1 are editorial and do not affect testing or performance requirements.

• Section 7.6.3.2 Note 8 changes the incorrectly referenced section of 7.6.1.2 to section 7.6.1.8.

• Section 7.6.4.2 Note 12 changes the incorrectly referenced section of 7.6.1.2 to section 7.6.1.8.

• Section 7.6.5.2 Note 16 changes the incorrectly referenced section 7.6.1.2 to section 7.6.1.8.

• Section 7.6.5.3 Note 17 changes the incorrectly referenced sections 7.6.3.4 and 7.6.4.4 to section 7.6.5.4.

3. Commission's Assessment of the Revised Standard

The Commission concludes that the revisions to ASTM F977-12 that were made by ASTM F977-18, ASTM F977-22, and ASTM F977-22e1 improve the safety of infant walkers. Pursuant to the statute, the Commission will allow the revised voluntary standard, ASTM F977-22e1, to become the mandatory consumer product safety standard for infant walkers. This rule will update the incorporation by reference in 16 CFR part 1216 to reference ASTM F977-22e1 as the mandatory standard for infant walkers.

C. Incorporation by Reference

Section 1216.2 of the direct final rule incorporates by reference ASTM F977-22e1. The Office of the Federal Register (OFR) has regulations regarding incorporation by reference. 1 CFR part 51. Under these regulations, agencies must discuss, in the preamble to a final rule, ways in which the material the agency incorporates by reference is reasonably available to interested parties, and how interested parties can obtain the material. In addition, the preamble to the final rule must summarize the material. 1 CFR 51.5(b).

In accordance with the OFR regulations, section B. Revisions to ASTM F977 of this preamble summarizes the major provisions of ASTM F977-22e1 that the Commission incorporates by reference into 16 CFR part 1216. The standard is reasonably available to interested parties. Until the direct final rule takes effect, a read-only copy of ASTM F977-22e1 is available for viewing, at no cost, on ASTM's website at: www.astm.org/CPSC.htm. Once the rule takes effect, a read-only copy of the standard will be available for viewing, at no cost, on the ASTM website at: www.astm.org/READINGLIBRARY/. Interested parties can also schedule an appointment to inspect a copy of the standard at CPSC's Office of the Secretary, U.S. Consumer Product Safety Commission, Room 820, 4330 East West Highway, Bethesda, MD 20814, telephone: (301) 504-7479; email: cpsc-os@cpsc.gov. Interested parties can purchase a copy of ASTM F977-22e1 from ASTM International, 100 Barr Harbor Drive, P.O. Box C700, West Conshohocken, PA 19428-2959 USA; telephone: (610) 832-9585; www.astm.org.

D. Certification

Section 14(a) of the Consumer Product Safety Act (CPSA; 15 U.S.C. 2051-2089) requires manufacturers of products subject to a consumer product safety rule under the CPSA, or to a similar rule, ban, standard, or regulation under any other act enforced by the Commission, to certify that the products comply with all applicable CPSC requirements. 15 U.S.C. 2063(a). Such certification must be based on a test of each product, or on a reasonable testing program, or for children's products, on tests of a sufficient number of samples by a third party conformity assessment body accredited by CPSC to test according to the applicable requirements. As noted, standards issued under section 104(b)(1)(B) of the CPSIA are “consumer product safety standards.” Thus, they are subject to the testing and certification requirements of section 14 of the CPSA.

Because infant walkers are children's products, a CPSC-accepted third party conformity assessment body must test samples of the products. Products subject to part 1216 also must comply with all other applicable CPSC requirements, such as the lead content requirements in section 101 of the CPSIA,⁴ the tracking label requirements in section 14(a)(5) of the CPSA,⁵ and the consumer registration form requirements in section 104(d) of the CPSIA.⁶ ASTM F977-22e1 makes no changes to ASTM F977-12 that would impact any of these existing requirements.

⁴ 15 U.S.C. 1278a.

⁵ 15 U.S.C. 2063(a)(5).

⁶ 15 U.S.C. 2056a(d).

E. Notice of Requirements

In accordance with section 14(a)(3)(B)(vi) of the CPSA, the Commission previously published a notice of requirements (NOR) for accreditation of third party conformity assessment bodies for testing infant walkers. 75 FR 35282 (Jun. 21, 2010). The NOR provided the criteria and process for CPSC to accept accreditation of third party conformity assessment bodies for testing infant walkers to 16 CFR part 1216. The NORs for all mandatory standards for durable infant or toddler products are listed in the Commission's rule, “Requirements Pertaining to Third Party Conformity Assessment Bodies,” codified in 16 CFR part 1112. Id.

CPSC-accepted testing laboratories that have ASTM F977-12 in their scope of accreditation are competent to conduct testing to ASTM F977-22e1. None of the changes to the standard would affect a CPSC-accepted laboratory's ability to conduct testing to the revised standard.

The Commission therefore considers the existing CPSC-accepted laboratories for testing to ASTM F977-12 to be capable of testing to ASTM F977-22e1 as well. Accordingly, the existing NOR for this standard will remain in place, and CPSC-accepted third party conformity assessment bodies are expected to update the scope of the testing laboratories' accreditations to reflect the revised standard in the normal course of renewing their accreditations. Thus, laboratories will begin testing to the new standard when ASTM F977-22e1 goes into effect as the mandatory standard, and the existing accreditations that the Commission has accepted for testing to this standard will cover testing to the revised standard.

F. Direct Final Rule Process

The Commission is issuing this rule as a direct final rule. Although the Administrative Procedure Act (APA; 5 U.S.C. 551-559) generally requires agencies to provide notice of a rule and an opportunity for interested parties to comment on it, section 553 of the APA provides an exception when the agency “for good cause finds” that notice and comment are “impracticable, unnecessary, or contrary to the public interest.” Id. 553(b)(B). The Commission concludes that when it updates a reference to an ASTM standard that the Commission incorporated by reference under section 104(b) of the CPSIA, notice and comment are not necessary.

Specifically, under the process set out in section 104(b)(4)(B) of the CPSIA, when ASTM revises a standard that the Commission has previously incorporated by reference under section 104(b)(1)(B) of the CPSIA, that revision will become the new CPSC standard, unless the Commission determines that ASTM's revision does not improve the safety of the product. Thus, unless the Commission makes such a determination, the ASTM revision becomes CPSC's standard by operation of law. The Commission is allowing ASTM F977-22e1 to become CPSC's new standard because its provisions improve product safety. The purpose of this direct final rule is to update the Code of Federal Regulations (CFR) so that it reflects the version of the standard that takes effect by statute. This rule updates the reference in the CFR, but under the terms of the CPSIA, ASTM F977-22e1 takes effect as the new CPSC standard for infant walkers even if the Commission does not issue this rule. Thus, public comments would not alter substantive changes to the standard or the effect of the revised standard as a consumer product safety standard under section 104(b) of the CPSIA. Under these circumstances, notice and comment are unnecessary.

In Recommendation 95-4, the Administrative Conference of the United States (ACUS) endorses direct final rulemaking as an appropriate procedure to expedite rules that are noncontroversial and not expected to generate significant adverse comments. See 60 FR 43108 (Aug. 18, 1995). ACUS recommends that agencies use the direct final rule process when they act under the “unnecessary” prong of the good cause exemption in 5 U.S.C. 553(b)(B). Consistent with the ACUS recommendation, the Commission is publishing this rule as a direct final rule, because CPSC does not expect any significant adverse comments.

Unless CPSC receives a significant adverse comment within 30 days of this notification, the rule will become effective on February 25, 2023. In accordance with ACUS's recommendation, the Commission considers a significant adverse comment to be “one where the commenter explains why the rule would be inappropriate,” including an assertion challenging “the rule's underlying premise or approach,” or a claim that the rule “would be ineffective or unacceptable without a change.” 60 FR 43108, 43111 (Aug. 18, 1995). As noted, this rule merely updates a reference in the CFR to reflect a change that occurs by statute, and public comments should address this specific action.

If the Commission receives a significant adverse comment, the Commission will withdraw this direct final rule. Depending on the comment and other circumstances, the Commission may then incorporate the adverse comment into a subsequent direct final rule or publish a notice of proposed rulemaking, providing an opportunity for public comment.

G. Regulatory Flexibility Act

The Regulatory Flexibility Act (RFA; 5 U.S.C. 601-612) generally requires agencies to review proposed and final rules for their potential economic impact on small entities, including small businesses, and prepare regulatory flexibility analyses. 5 U.S.C. 603, 604. The RFA applies to any rule that is subject to notice and comment procedures under section 553 of the APA. Id. As discussed in section F. Direct Final Rule Process of this preamble, the Commission has determined that notice and the opportunity to comment are unnecessary for this rule. Therefore, the RFA does not apply. CPSC also notes the limited nature of this document, which merely updates the incorporation by reference to reflect the mandatory CPSC standard that takes effect under section 104 of the CPSIA.

H. Paperwork Reduction Act

The current mandatory standard for infant walkers includes requirements for marking, labeling, and instructional literature that constitute a “collection of information,” as defined in the Paperwork Reduction Act (PRA; 44 U.S.C. 3501-3521). The Commission took the steps required by the PRA for information collections when it promulgated 16 CFR part 1216, and the marking, labeling, and instructional literature for infant walkers are currently approved under Office of Management and Budget (OMB) Control Number 3041-0159. The revisions to the voluntary standard made no changes to that section of the standard. Because the information collection burden is unchanged, the revision does not affect the information collection requirements or approval related to the standard.

I. Effective Date

Under the procedure set forth in section 104(b)(4)(B) of the CPSIA, when a voluntary standards organization revises a standard that the Commission adopted as a mandatory standard, the revision becomes the CPSC standard 180 days after notification to the Commission, unless the Commission timely notifies the standards organization that it has determined that the revision does not improve the safety of the product, or the Commission sets a later date in the Federal Register. 15 U.S.C. 2056a(b)(4)(B). The Commission is taking neither of those actions with respect to the standard for infant walkers. Therefore, ASTM F977-22e1 will take effect as the new mandatory standard for infant walkers on February 25, 2023, 180 days after August 29, 2022, when the Commission received notice of the revision. All infant walkers manufactured after February 25, 2023, must comply with this revised standard.

J. Preemption

Section 26(a) of the CPSA provides that where a consumer product safety standard is in effect and applies to a product, no state or political subdivision of a state may either establish or continue in effect a requirement dealing with the same risk of injury unless the state requirement is identical to the federal standard. 15 U.S.C. 2075(a). Section 26(c) of the CPSA also provides that states or political subdivisions of states may apply to CPSC for an exemption from this preemption under certain circumstances. Section 104(b) of the CPSIA deems rules issued under that provision “consumer product safety standards.” Therefore, once a rule issued under section 104 of the CPSIA takes effect, it will preempt in accordance with section 26(a) of the CPSA.

K. Environmental Considerations

Commission rules are categorically excluded from any requirement to prepare an environmental assessment or an environmental impact statement where they “have little or no potential for affecting the human environment.” 16 CFR 1021.5(c)(2). This rule falls within the categorical exclusion, so no environmental assessment or environmental impact statement is required.

L. Congressional Review Act

The Congressional Review Act (CRA; 5 U.S.C. 801-808) states that before a rule may take effect, the agency issuing the rule must submit the rule, and certain related information, to each House of Congress and the Comptroller General. 5 U.S.C. 801(a)(1). The CRA submission must indicate whether the rule is a “major rule.” The CRA states that the Office of Information and Regulatory Affairs determines whether a rule qualifies as a “major rule.”

Pursuant to the CRA, OMB's Office of Information and Regulatory Affairs has determined that this rule does not qualify as a “major rule,” as defined in 5 U.S.C. 804(2). To comply with the CRA, CPSC will submit the required information to each House of Congress and the Comptroller General.

List of Subjects in 16 CFR Part 1216

Consumer protection, Imports, Incorporation by reference, Imports, Infants and children, Law enforcement, Safety, Toys.

For the reasons discussed in the preamble, the Commission amends 16 CFR chapter II as follows:

PART 1216—SAFETY STANDARD FOR INFANT WALKERS

1. Revise the authority citation for part 1216 to read as follows:

Authority: 15 U.S.C. 2056a.

2. Revise § 1216.2 to read as follows:

§ 1216.2 Requirements for infant walkers.

Each infant walker must comply with all applicable provisions of ASTM F977-22e1, Standard Consumer Safety Specification for Infant Walkers. ASTM F977-22e1, Standard Consumer Safety Specification for Infant Walkers, approved June 15, 2022 is incorporated by reference into this section with the approval of the Director of the Federal Register under 5 U.S.C. 552(a) and 1 CFR part 51. This material is available for inspection at the Office of the Secretary, U.S. Consumer Product Safety Commission at: Room 820, 4330 East West Highway, Bethesda, MD 20814, telephone (301) 504-7479, email cpsc-os@cpsc.gov, or at the National Archives and Records Administration (NARA). For information on the availability of this material at NARA, email fr.inspection@nara.gov, or go to: www.archives.gov/federal-register/cfr/ibr-locations.html. A read-only copy of the standard is available for viewing on the ASTM website at www.astm.org/READINGLIBRARY/. You may obtain a copy from ASTM International, 100 Barr Harbor Drive, P.O. Box C700, West Conshohocken, PA 19428-2959; telephone (610) 832-9585; www.astm.org.

Alberta E. Mills,
Secretary, Consumer Product Safety Commission.

[FR Doc. 2022-25812 Filed 11-28-22; 8:45 am]

BILLING CODE 6355-01-P